FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
4058NF | Basic Shipping U.S.A., Inc., 39-01 Main Street, Suite 209, Flushing, NY 11354 | July 13, 2003.
1995NF | La Rosa Del Monte Express Inc., 1133-35 Tiffany Street, Bronx, NY 10459 | July 3, 2003.
16561N | Palumbo USA Inc., 1099 Wall Street, Suite 395, Lyndhurst, NJ 07071 | May 31, 2002.
17236N | Simpson's Shipping Enterprise, 248 West Lincoln Avenue, Mt. Vernon, NY 10550 | June 15, 2003.
4189F | Terrace Express, Inc., 8151 E. Bailey Way, Anaheim, CA 92808 | July 21, 2003.

Sandra L. Kusumoto,
Director, Bureau of Consumer Complaints and Licensing.

[FR Doc. 03-22559 Filed 9-3-03; 8:45 am]

BILLING CODE 6730-01-P